DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory Agenda; Semiannual Summary

AGENCY: Office of the Secretary, DOT.

ACTION: Semiannual regulatory agenda.

SUMMARY: The Regulatory Agenda is a semiannual summary of all current and projected rulemakings, reviews of existing regulations, and completed actions of the Department. The intent of the Agenda is to provide the public with information about the Department of Transportation's regulatory activity planned for the next 12 months. It is expected that this information will enable the public to more effectively participate in the Department's regulatory process. The public is also invited to submit comments on any aspect of this Agenda.

FOR FURTHER INFORMATION CONTACT:

General

You should direct all comments and inquiries on the Agenda in general to Jonathan Moss, Assistant General Counsel for Regulation, Department of Transportation, 1200 New Jersey Avenue SE., Washington, DC 20590; (202) 366-4723.

Specific

You should direct all comments and inquiries on particular items in the Agenda to the individual listed for the regulation or the general rulemaking contact person for the operating administration in appendix B.

Table of Contents

Supplementary Information:

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

Improvement of our regulations is a prime goal of the Department of Transportation (Department or DOT). Our regulations should be clear, simple, timely, fair, reasonable, and necessary. They should not be issued without appropriate involvement of the public; once issued, they should be periodically reviewed and revised, as needed, to ensure that they continue to meet the needs for which they originally were designed. To view additional information about the Department's regulatory activities online, go to http://www.dot.gov/regulations. Among other things, this Web site provides a report updated monthly on the status of the DOT significant rulemakings listed in the semiannual regulatory agenda.

To help the Department achieve its goals and in accordance with Executive Order (E.O.) 12866, “Regulatory Planning and Review,” (58 FR 51735; Oct. 4, 1993) and the Department's Regulatory Policies and Procedures (44 FR 11034; Feb. 26, 1979), the Department prepares a semiannual regulatory agenda. It summarizes all current and projected rulemakings, reviews of existing regulations, and completed actions of the Department. These are matters on which action has begun or is projected during the next 12 months or for which action has been completed since the last Agenda.

The Agendas are based on reports submitted by the offices initiating the rulemaking and are reviewed by OST.

The Internet is the basic means for disseminating the Unified Agenda. The complete Unified Agenda is available online at www.reginfo.gov in a format that offers users a greatly enhanced ability to obtain information from the Agenda database.

Because publication in the Federal Register is mandated for the regulatory flexibility agendas required by the Regulatory Flexibility Act (5 U.S.C. 602), DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the Internet.

Significant Rulemakings

The Agenda covers all rules and regulations of the Department. We have classified rules as significant in the Agenda if they are, essentially, very beneficial, controversial, or of substantial public interest under our Regulatory Policies and Procedures. All DOT significant rulemaking documents are subject to review by the Secretary of Transportation. If the Office of Management and Budget (OMB) decided a rule is subject to its review under Executive Order 12866, we have also classified it as significant in the Agenda.

Explanation of Information on the Agenda

An Office of Management and Budget memorandum, dated July 27, 2016, requires the format for this Agenda.

First, the Agenda is divided by initiating offices. Then the Agenda is divided into five categories: (1) Prerule stage, (2) proposed rule stage, (3) final rule stage, (4) long-term actions, and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act. If there is information that does not fit in the other categories, it will be included under a separate heading entitled “Additional Information.” One such example of this is the letters “SB,” “IC,” and “SLT.” These refer to information used as part of our required reports on Retrospective Review of DOT rulemakings. A “Y” or an “N,” for yes and no, respectively, follow the letters to indicate whether or not a particular rulemaking would have effects on: Small businesses (SB); information collections (IC); or State, local, or tribal (SLT) governments.

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

Request for Comments

General

Our agenda is intended primarily for the use of the public. Since its inception, we have made modifications and refinements that we believe provide the public with more helpful information, as well as making the Agenda easier to use. We would like you, the public, to make suggestions or comments on how the Agenda could be further improved.

Reviews

We also seek your suggestions on which of our existing regulations you believe need to be reviewed to determine whether they should be revised or revoked. We particularly draw your attention to the Department's review plan in appendix D. In response to Executive Order 13563 “Retrospective Review and Analysis of Existing Rules,” in 2011 we prepared a retrospective review plan providing more detail on the process we use to conduct reviews of existing rules, including changes in response to Executive Order 13563. Any updates related to our retrospective plan and review results can be found at http://www.dot.gov/regulations.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require us to develop an accountable process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of Government or Indian tribes. Therefore, we encourage State and local Governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department with regard to any specific item on the Agenda. Regulatory action, in addition to the items listed, is not precluded.

Dated: October 19, 2016.
Anthony R. Foxx,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the Internet at http://www.regulations.gov. See appendix C for more information.

(Name of contact person), (Name of the DOT agency), 1200 New Jersey Avenue SE., Washington, DC 20590. (For the Federal Aviation Administration, substitute the following address: Office of Rulemaking, ARM-1, 800 Independence Avenue SW., Washington, DC 20591).

Appendix B—General Rulemaking Contact Persons

The following is a list of persons who can be contacted within the Department for general information concerning the rulemaking process within the various operating administrations.

FAA—Lirio Liu, Director, Office of Rulemaking, 800 Independence Avenue SW., Washington, DC 20591; telephone (202) 267-7833.

FHWA—Jennifer Outhouse, Office of Chief Counsel, 1200 New Jersey Avenue SE., Washington, DC 20590; telephone (202) 366-0761.

FMCSA—Steven J. LaFreniere, Regulatory Ombudsman, 1200 New Jersey Avenue SE., Washington, DC 20590; telephone (202) 366-0596.

NHTSA—Steve Wood, Office of Chief Counsel, 1200 New Jersey Avenue SE., Washington, DC 20590; telephone (202) 366-2992.

FRA—Kathryn Gresham, Office of Chief Counsel, 1200 New Jersey Avenue SE., Washington, DC 20590; telephone (202) 493-6063.

FTA—Chaya Koffman, Office of Chief Counsel, 1200 New Jersey Avenue SE., Washington, DC 20590; telephone (202) 366-3101.

SLSDC—Carrie Mann Lavigne, Chief Counsel, 180 Andrews Street, Massena, NY 13662; telephone (315) 764-3200.

PHMSA—Stephen Gordon, Office of Chief Counsel, 1200 New Jersey Avenue SE., Washington, DC 20590; telephone (202) 366-1101.

MARAD—Mitch Hudson, Office of Chief Counsel, Maritime Administration, 1200 New Jersey Avenue SE., Washington, DC 20590; telephone (202) 366-9373.

OST—Jonathan Moss, Assistant General Counsel for Regulation, 1200 New Jersey Avenue SE., Washington, DC 20590; telephone (202) 366-4723.

Appendix C—Public Rulemaking Dockets

All comments via the Internet are submitted through the Federal Docket Management System (FDMS) at the following address: http://www.regulations.gov. The FDMS allows the public to search, view, download, and comment on all Federal agency rulemaking documents in one central online system. The above referenced Internet address also allows the public to sign up to receive notification when certain documents are placed in the dockets.

The public also may review regulatory dockets at or deliver comments on proposed rulemakings to the Dockets Office at 1200 New Jersey Avenue SE., Room W12-140, Washington, DC 20590, 1-800-647-5527. Working Hours: 9:00 a.m. to 5:00 p.m.

Appendix D—Review Plans for Section 610 and Other Requirements

Part I—The Plan

General

The Department of Transportation has long recognized the importance of regularly reviewing its existing regulations to determine whether they need to be revised or revoked. Our Regulatory Policies and Procedures require such reviews. We also have responsibilities under Executive Order 12866, “Regulatory Planning and Review,” and section 610 of the Regulatory Flexibility Act to conduct such reviews. This includes the use of plain language techniques in new rules and considering its use in existing rules when we have the opportunity and resources to permit its use. We are committed to continuing our reviews of existing rules and, if it is needed, will initiate rulemaking actions based on these reviews.

In accordance with Executive Order 13563, “Improving Regulation and Regulatory Review,” issued by the President on January 18, 2011, the Department has added other elements to its review plan. The Department has decided to improve its plan by adding special oversight processes within the Department, encouraging effective and timely reviews, including providing additional guidance on particular problems that warrant review, and expanding opportunities for public participation. These new actions are in addition to the other steps described in this appendix.

Section 610 Review Plan

Section 610 requires that we conduct reviews of rules that: (1) Have been published within the last 10 years, and (2) have a “significant economic impact on a substantial number of small entities” (SEIOSNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Thus, Year 1 (2008) begins in the fall of 2008 and ends in the fall of 2009; Year 2 (2009) begins in the fall of 2009 and ends in the fall of 2010, and so on. We request public comment on the timing of the reviews. For example, is there a reason for scheduling an analysis and review for a particular rule earlier than we have? Any comments concerning the plan or particular analyses should be submitted to the regulatory contacts listed in appendix B, General Rulemaking Contact Persons.

Section 610 Review

The agency will analyze each of the rules in a given year's group to determine whether any rule has a SEIOSNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to us early in the analysis year concerning the small entity impact of the rules to help us in making our determinations.

In each fall Agenda, the agency will publish the results of the analyses it has completed during the previous year. For rules that had a negative finding on SEIOSNOSE, we will give a short explanation (e.g., “these rules only establish petition processes that have no cost impact” or “these rules do not apply to any small entities”). For parts, subparts, or other discrete sections of rules that do have a SEIOSNOSE, we will announce that we will be conducting a formal section 610 review during the following 12 months. At this stage, we will add an entry to the Agenda in the prerulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 and 14 CFR parts 200 through 212 | 2008 | 2009
2 | 48 CFR parts 1201 through 1253 and new parts and subparts | 2009 | 2010
3 | 14 CFR parts 213 through 232 | 2010 | 2011
4 | 14 CFR parts 234 through 254 | 2011 | 2012
5 | 14 CFR parts 255 through 298 and 49 CFR part 40 | 2012 | 2013
6 | 14 CFR parts 300 through 373 | 2013 | 2014
7 | 14 CFR parts 374 through 398 | 2014 | 2015
8 | 14 CFR part 399 and 49 CFR parts 1 through 11 | 2015 | 2016
9 | 49 CFR parts 17 through 28 | 2016 | 2017
10 | 49 CFR parts 29 through 39 and parts 41 through 89 | 2017 | 2018

Year 9 (2016) List of Rules That Will Be Analyzed During the Next Year

49 CFR part 17—Intergovernmental review of Department of Transportation programs and activities

49 CFR part 20—New restrictions on lobbying

49 CFR part 21—Nondiscrimination In Federally-Assisted Programs of the Department of Transportation—Effectuation of Title VI of the Civil Rights Act Of 1964

49 CFR part 22—Short-Term Lending Program (STLP)

49 CFR part 23—Participation of Disadvantaged Business Enterprise in Airport Concessions

49 CFR part 24—Uniform Relocation Assistance And Real Property Acquisition For Federal And Federally-Assisted Programs

49 CFR part 25—Nondiscrimination On The Basis Of Sex in Education Programs or Activities Receiving Federal Financial Assistance

49 CFR part 26—Participation by Disadvantaged Business Enterprises in Department of Transportation Financial Assistance Programs

49 CFR part 27—Nondiscrimination On The Basis Of Disability in Programs or Activities Receiving Federal Financial Assistance

49 CFR part 28—Enforcement of Nondiscrimination On The Basis Of Handicap in Programs or Activities Conducted by the Department of Transportation

Year 8 (2015) List of Rules With Ongoing Analysis

14 CFR part 399—Fees and Charges for Special Services

49 CFR part 1—Organization and Delegation of Power and Duties

49 CFR part 3—Official Seal

49 CFR part 5—Rulemaking Procedures

49 CFR part 6—Implementation of Equal Access to Justice Act in Agency Proceedings

49 CFR part—Public Availability of Information

49 CFR part 8—Classified Information: Classification/Declassification/Access

49 CFR part 9—Testimony of Employees of the Department and Production of Records in Legal Proceedings

49 CFR part 10—Maintenance of and Access to Records Pertaining to Individuals

49 CFR part 11—Protection of Human Subjects

Year 7 (2014) List of Rules With Ongoing Analysis

14 CFR part 374—Implementation of the Consumer Credit Protection Act with Respect to Air Carriers and Foreign Air Carriers

14 CFR part 374a—Extension of Credit by Airlines to Federal Political Candidates

14 CFR part 375—Navigation of Foreign Civil Aircraft within the United States

14 CFR part 377—Continuance of Expired Authorizations by Operation of Law Pending Final Determination of Applications for Renewal Thereof

14 CFR part 380—Public Charters

14 CFR part 381—Special Event Tours

14 CFR part 382—Nondiscrimination On The Basis Of Disability in Air Travel

14 CFR part 383—Civil Penalties

14 CFR part 385—Staff Assignments and Review of Action under Assignments

14 CFR part 389—Fees and Charges for Special Services

14 CFR part 398—Guidelines for Individual Determinations of Basic Essential Air Service

Year 6 (2013) List of Rules With Ongoing Analysis

14 CFR part 300—Rules of Conduct in DOT Proceedings Under This Chapter

14 CFR part 302—Rules of Practice in Proceedings

14 CFR part 303—Review of Air Carrier Agreements

14 CFR part 305—Rules of Practice in Informal Nonpublic Investigations

14 CFR part 313—Implementation of the Energy Policy and Conservation Act

14 CFR part 323—Terminations, Suspensions, and Reductions of Service

14 CFR part 325—Essential Air Service Procedures

14 CFR part 330—Procedures For Compensation of Air Carriers

14 CFR part 372—Overseas Military Personnel Charters

Year 5 (Fall 2012) List of Rules With Ongoing Analysis

14 CFR part 255—Airline Computer Reservations Systems

14 CFR part 256—[Reserved]

14 CFR part 271—Guidelines for Subsidizing Air Carriers Providing Essential Air Transportation

14 CFR part 272—Essential Air Service to the Freely Associated States

14 CFR part 291—Cargo Operations in Interstate Air Transportation

14 CFR part 292—International Cargo Transportation

14 CFR part 293—International Passenger Transportation

14 CFR part 294—Canadian Charter Air Taxi Operators

14 CFR part 296—Indirect Air Transportation of Property

14 CFR part 297—Foreign Air Freight Forwarders and Foreign Cooperative Shippers Associations

14 CFR part 298—Exemptions for Air Taxi and Commuter Air Carrier Operations

Year 4 (Fall 2011) List of Rules With Ongoing Analysis

14 CFR part 240—Inspection of Accounts and Property

14 CFR part 241—Uniform System of Accounts and Reports for Large Certificated Air Carriers

14 CFR part 243—Passenger Manifest Information

14 CFR part 247—Direct Airport-to-Airport Mileage Records

14 CFR part 248—Submission of Audit Reports

14 CFR part 249—Preservation of Air Carrier Records

Year 3 (Fall 2010) List of Rules With Ongoing Analysis

14 CFR part 213—Terms, Conditions, and Limitations of Foreign Air Carrier Permits

14 CFR part 214—Terms, Conditions, and Limitations of Foreign Air Carrier Permits Authorizing Charter Transportation Only

14 CFR part 215—Use and Change of Names of Air Carriers, Foreign Air Carriers, and Commuter Air Carriers

14 CFR part 216—Commingling of Blind Sector Traffic by Foreign Air Carriers

14 CFR part 217—Reporting Traffic Statistics by Foreign Air Carriers in Civilian Scheduled, Charter, and Nonscheduled Services

14 CFR part 218—Lease by Foreign Air Carrier or Other Foreign Person of Aircraft With Crew

14 CFR part 221—Tariffs

14 CFR part 222—Intermodal Cargo Services by Foreign Air Carriers

14 CFR part 223—Free and Reduced-Rate Transportation

14 CFR part 232—Transportation of Mail, Review of Orders of Postmaster General

14 CFR part 234—Airline Service Quality Performance Reports

Year 1 (Fall 2008) List of Rules With Ongoing Analysis

49 CFR part 91—International Air Transportation Fair Competitive Practices

49 CFR part 92—Recovering Debts to the United States by Salary Offset

49 CFR part 98—Enforcement of Restrictions on Post-Employment Activities

49 CFR part 99—Employee Responsibilities and Conduct

14 CFR part 200—Definitions and Instructions

14 CFR part 201—Air Carrier Authority Under Subtitle VII of Title 49 of the United States Code [Amended]

14 CFR part 203—Waiver of Warsaw Convention Liability Limits and Defenses

14 CFR part 204—Data To Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

Federal Aviation Administration

Section 610 Review Plan

The Federal Aviation Administration (FAA) has elected to use the two-step, two-year process used by most Department of Transportation (DOT) modes in past plans. As such, the FAA has divided its rules into 10 groups as displayed in the table below. During the first year (the “analysis year”), all rules published during the previous 10 years within a 10% block of the regulations will be analyzed to identify those with a significant economic impact on a substantial number of small entities (SEISNOSE). During the second year (the “review year”), each rule identified in the analysis year as having a SEISNOSE will be reviewed in accordance with Section 610 (b) to determine if it should be continued without change or changed to minimize impact on small entities. Results of those reviews will be published in the DOT Semiannual Regulatory Agenda.

Year | Regulations to be reviewed | Analysis year | Review year
1 | 14 CFR parts 119 through 129 and parts 150 through 156 | 2008 | 2009
2 | 14 CFR parts 133 through 139 and parts 157 through 169 | 2009 | 2010
3 | 14 CFR parts 141 through 147 and parts 170 through 187 | 2010 | 2011
4 | 14 CFR parts 189 through 198 and parts 1 through 16 | 2011 | 2012
5 | 14 CFR parts 17 through 33 | 2012 | 2013
6 | 14 CFR parts 34 through 39 and parts 400 through 405 | 2013 | 2014
7 | 14 CFR parts 43 through 49 and parts 406 through 415 | 2014 | 2015
8 | 14 CFR parts 60 through 77 | 2015 | 2016
9 | 14 CFR parts 91 through 105 | 2016 | 2017
10 | 14 CFR parts 417 through 460 | 2017 | 2018

Background on the Regulatory Flexibility Act

The Regulatory Flexibility Act of 1980 as amended (RFA), (§§ 601 through 612 of Title 5, United States Code (5 U.S.C.)) requires Federal regulatory agencies to analyze all proposed and final rules to determine their economic impact on small entities, which includes small businesses, small organizations, and small governmental jurisdictions. The primary purpose of the RFA is to establish as a principle of regulatory issuance that Federal agencies endeavor, consistent with the objectives of the rule and applicable statutes, to fit regulatory and informational requirements to the scale of entities subject to the regulation. The FAA performed the required RFA analyses of each final rulemaking action and amendment it has initiated since enactment of the RFA in 1980.

Section 610 of 5 U.S.C. requires government agencies to periodically review all regulations that will have a SEISNOSE. The FAA must analyze each rule within 10 years of its publication date.

Defining SEISNOSE

The RFA does not define “significant economic impact.” Therefore, there is no clear rule or number to determine when a significant economic impact occurs. However, the Small Business Administration (SBA) states that significance should be determined by considering the size of the business, the size of the competitor's business, and the impact the same regulation has on larger competitors.

Likewise, the RFA does not define “substantial number.” However, the legislative history of the RFA suggests that a substantial number must be at least one but does not need to be an overwhelming percentage such as more than half. The SBA states that the substantiality of the number of small businesses affected should be determined on an industry-specific basis.

This analysis consisted of the following three steps:

• Review of the number of small entities affected by the amendments to parts 91 through 105.

• Identification and analysis of all amendments to parts 91 through 105 since 2006 to determine whether any still have or now have a SEISNOSE.

• Review of the FAA Office of Aviation Policy, and Plans regulatory flexibility assessment of each amendment performed as required by the RFA.

Year 10 (2017) List of Rules To Be Analyzed During the Next Year

14 CFR Part 417—Launch Safety

14 CFR Part 420—License to Operate a Launch Site

14 CFR Part 431—Launch and Reentry of a Reusable Launch Vehicle (RLV)

14 CFR Part 433—License to Operate a Reentry Site

14 CFR Part 43—Reentry of a Reentry Vehicle Other Than a Reusable Launch Vehicle (RLV)

14 CFR Part 437—Experimental Permits

14 CFR Part 440—Financial Responsibility

14 CFR Part 460—Human Space Flight Requirements

Year 9 (2016) List of Rules Analyzed and Summary of Results

14 CFR Part 9—General Operating and Flight Rules

• Section 610: The agency conducted a Section 610 review of this part and found Amendment 91-314, 75 FR 30193, May 28, 2010; Amendment 91-314, 75 FR 30193, May 28, 2010; and Amendment 91-330, 79 FR 9972, Feb. 21, 2014 trigger SEISNOSE within the meaning of the RFA.

• General: No changes are needed. The FAA has considered a number of alternatives in attempts to lower compliance costs for small entities, but could not go forward with the lower cost alternatives without compromising the safety for the industry.

14 CFR Part 93—Special Air Traffic Rules

• Section 610: The agency conducted a Section 610 review of this part and found no SEISNOSE.

• General: No changes are needed. These regulations are cost effective and impose the least burden.

14 CFR Part 95—IFR Altitudes

• Section 610: The agency conducted a Section 610 review of this part and found there were no amendments since 2016. Therefore, part 99 does not trigger SEISNOSE.

• General: No changes are needed.

14 CFR Part 97—Standard Instrument Procedures

• Section 610: The agency conducted a Section 610 review of this part and found no SEISNOSE.

• General: No changes are needed. These regulations are cost effective and impose the least burden.

14 CFR Part 99—Security Control of Air Traffic

• Section 610: The agency conducted a Section 610 review of this part and found there were no amendments since 2016. Therefore, part 99 does not trigger SEISNOSE.

• General: No changes are needed.

14 CFR Part 101—Moored Balloons, Kites, Amateur Rockets and Unmanned Free Balloons

• Section 610: The agency conducted a Section 610 review of this part and found no SEISNOSE.

• General: No changes are needed. These regulations are cost effective and impose the least burden.

14 CFR Part 103—Ultralight Vehicles

• Section 610: Section 610: The agency conducted a Section 610 review of this part and found there were no amendments since 2016. Therefore, part 99 does not trigger SEISNOSE.

• General: No changes are needed.

14 CFR Part 105—Parachute Operations

• Section 610: The agency conducted a Section 610 review of this part and found no SEISNOSE.

• General: No changes are needed. These regulations are cost effective and impose the least burden.

Federal Highway Administration

Section 610 and Other Reviews

Year | Regulations to be reviewed | Analysis year | Review year
1 | None | 2008 | 2009
2 | 23 CFR Parts 1 to 260 | 2009 | 2010
3 | 23 CFR Parts 420 to 470 | 2010 | 2011
4 | 23 CFR Part 500 | 2011 | 2012
5 | 23 CFR Parts 620 to 637 | 2012 | 2013
6 | 23 CFR Parts 645 to 669 | 2013 | 2014
7 | 23 CFR Parts 710 to 924 | 2014 | 2015
8 | 23 CFR Parts 940 to 973 | 2015 | 2016
9 | 23 CFR Parts 1200 to 1252 | 2016 | 2017
10 | New parts and subparts | 2017 | 2018

Federal-Aid Highway Program

The Federal Highway Administration (FHWA) has adopted regulations in title 23 of the CFR, chapter I, related to the Federal-Aid Highway Program. These regulations implement and carry out the provisions of Federal law relating to the administration of Federal aid for highways. The primary law authorizing Federal aid for highway is chapter I of title 23 of the U.S.C. 145 of title 23, expressly provides for a federally assisted State program. For this reason, the regulations adopted by the FHWA in title 23 of the CFR primarily relate to the requirements that States must meet to receive Federal funds for the construction and other work related to highways. Because the regulations in title 23 primarily relate to States, which are not defined as small entities under the Regulatory Flexibility Act, the FHWA believes that its regulations in title 23 do not have a significant economic impact on a substantial number of small entities. The FHWA solicits public comment on this preliminary conclusion.

Year 8 (Fall 2015) List of Rules Analyzed and a Summary of Results

23 CFR Part 940—Intelligent Transportation System Architecture and Standards

• Section 610: No SEIOSNOSE. No small entities are affected

• General: No changes are needed. These regulations are cost effective and impose the least burden. FHWA's plain language review of these rules indicates no need for substantial revision.

23 CFR Part 950—Electronic Toll Collection

• Section 610: No SEIOSNOSE. No small entities are affected

• General: No changes are needed. These regulations are cost effective and impose the least burden. FHWA's plain language review of these rules indicates no need for substantial revision.

23 FR Part 970—National Park Service Management Systems

• Section 610: No SEIOSNOSE. No small entities are affected

• General: No changes are needed. These regulations are cost effective and impose the least burden. FHWA's plain language review of these rules indicates no need for substantial revision.

23 CFR Part 971—Forest Service Management Systems

• Section 610: No SEIOSNOSE. No small entities are affected

• General: No changes are needed. These regulations are cost effective and impose the least burden. FHWA's plain language review of these rules indicates no need for substantial revision.

23 CFR Part 972—Fish and Wildlife Service Management Systems

• Section 610: No SEIOSNOSE. No small entities are affected

• General: No changes are needed. These regulations are cost effective and impose the least burden. FHWA's plain language review of these rules indicates no need for substantial revision.

23 CFR Part 973—Management Systems Pertaining to the Bureau of Indian Affairs and the Indian Reservation Roads Program

• Section 610: No SEIOSNOSE. No small entities are affected

• General: No changes are needed. These regulations are cost effective and impose the least burden. FHWA's plain language review of these rules indicates no need for substantial revision.

Year 9 (Fall 2016) List of Rules That Will Be Analyzed During the Next Year

23 CFR Part 1200—Uniform Procedures for State Highway Safety Grant Programs

23 CFR Part 1208—National Minimum Drinking Age

23 CFR Part 1210—Operation of Motor Vehicles by Intoxicated Minors

23 CFR Part 1215—Use of Safety Belts—Compliance and Transfer-of-funds Procedures

23 CFR Part 1225—Operation of Motor Vehicles by Intoxicated Persons

23 CFR Part 1235—Uniform System for Parking for Persons with Disabilities

23 CFR Part 1240—Safety Incentive Grants for Use of Seat Belts—Allocations Based on Seat Belt Use Rates

Federal Motor Carrier Safety Administration

Section 610 and Other Reviews

Year | Regulations to be reviewed | Analysis year | Review year
1 | 49 CFR part 372, subpart A | 2008 | 2009
2 | 49 CFR part 386 | 2009 | 2010
3 | 49 CFR parts 325 and 390 (General) | 2010 | 2011
4 | 49 CFR parts 390 (Small Passenger-Carrying Vehicles), 391 to 393 and 396 to 399 | 2011 | 2012
5 | 49 CFR part 387 | 2012 | 2013
6 | 49 CFR parts 360, 365, 366, 368, 374, 377, and 378 | 2013 | 2014
7 | 49 CFR parts 356, 367, 369, 370, 371, 372 (subparts B and C) | 2014 | 2015
8 | 49 CFR parts 373, 376, and 379 | 2015 | 2016
9 | 49 CFR part 375 | 2016 | 2017
10 | 49 CFR part 395 | 2017 | 2018

Year 7 (Fall 2014) List of Rules With Ongoing Analysis

49 CFR Part 356—Motor Carrier Routing Regulations

• Section 610: There is no SEIOSNOSE. FMCSA requires for-hire interstate carriers to pay a single $300 registration fee (49 CFR part 365); making the process of paying by the route obsolete.

• General: These regulations are cost effective and impose the least burden. The commercial routes discussed in this rule have been eclipsed by the advent of the Unified Carrier Registration (UCR) and the International Registration Plan (IRP). It is our opinion that 49 CFR part 356 is obsolete and should be removed in its entirety.

49 CFR Part 367—Standards for Registration With States

• Section 610: There is no SEIOSNOSE. This action is not economically significant. All costs associated with this rule are required pursuant to an explicit Congressional mandate in Safe, Accountable, Flexible, Efficient Transportation Equity Act: A Legacy for Users (SAFETEA-LU). Also, a majority of the fees under the current rule replace fees that were paid under the Single State Registration System (SSRS). Much of the revenue collected by the new fees would have been collected under SSRS from the same entities.

• General: These regulations are cost effective and impose the least burden. FMCSA's plain language review of these rules indicates no need for substantial revision.

49 CFR Part 369—Reports of Motor Carriers

• Section 610: There is no SEIOSNOSE. This rule requires the reporting of principally financial data and it impacts only a small percentage of larger motor carriers (class I and class II carriers).

• General: These regulations are cost effective and impose the least burden to carriers. It is our opinion that the rule is obsolete and should be removed in its entirety. However, Congressional action to modify the statute is required and has not been granted to eliminate this regulation.

49 CFR Part 370—Principles and Practices for the Investigation and Voluntary Disposition of Loss and Damage Claims and Processing Salvage

• Section 610: There is no SEIOSNOSE, largely due to the fact that compliance with the rule is required by contract law and prudent commercial business practices.

• General: These regulations are cost effective and impose the least burden. This rule offers guidance on the business approach to deal with claims made against carriers for loss or damage of property. It is our opinion that the 49 CFR part 370 is obsolete in that it serves no discernible safety function. The requirement to follow and comply with the terms of Bills of Lading contracts are already captured by other laws.

49 CFR Part 371—Brokers of Property

• Section 610: There is no SEIOSNOSE. The potential costs identified in the Agency's worst case analysis are minimal, and represent costs that the vast majority of Brokers should already be incurring.

• General: This rule prescribes rules for brokers of property. Comments received during the rulemaking process indicate that some level of regulation is appropriate and should be retained.

49 CFR Part 372 (Subparts B and C)—Exemptions, Commercial Zones and Terminal Areas

• Section 610: There is no SEIOSNOSE. FMCSA requires for-hire interstate carriers to pay a single $300 registration fee (49 CFR part 365). The process addressed under 49 CFR part 372 identifies exemptions and commercial zones for which registration fees may not be required.

• General: These regulations are cost effective and impose the least burden. FMCSA's plain language review of these rules indicates no need for substantial revision.

Year 8 (2015) List of Rules Will Ongoing Analysis

49 CFR part 373—Receipts and Bills

49 CFR part 376—Lease and Interchange of Vehicles

49 CFR part 379—Preservation of Records

Year 9 (2016) List of Rules That Will Be Analyzed During the Next Year

49 CFR part 375—Transportation of household goods in interstate commerce; consumer protection regulations

National Highway Traffic Safety Administration

Section 610 and Other Reviews

Year | Regulations to be reviewed | Analysis year | Review year
1 | 49 CFR parts 571.223 through 571.500, and parts 575 and 579 | 2008 | 2009
2 | 23 CFR parts 1200 through 1300 | 2009 | 2010
3 | 49 CFR parts 501 through 526 and 571.213 | 2010 | 2011
4 | 49 CFR parts 571.131, 571.217, 571.220, 571.221, and 571.222 | 2011 | 2012
5 | 49 CFR parts 571.101 through 571.110, and 571.135, 571.138, and 571.139 | 2012 | 2013
6 | 49 CFR parts 529 through 578, except parts 571 and 575 | 2013 | 2014
7 | 49 CFR parts 571.111 through 571.129 and parts 580 through 588 | 2014 | 2015
8 | 49 CFR parts 571.201 through 571.212 | 2015 | 2016
9 | 49 CFR parts 571.214 through 571.219, except 571.217 | 2016 | 2017
10 | 49 CFR parts 591 through 595 and new parts and subparts | 2017 | 2018

Year 8 (Fall 2015) List of Rules Analyzed and a Summary of the Results

49 CFR Part 571.201—Occupant Protection in Interior Impact

• Section 610: There is no SEIOSNOSE.

• General: No changes are needed. These regulations are cost effective and impose the least burden. NHTSA's plain language review of these rules indicates no need for substantial revision.

49 CFR Part 571.202—Head Restraints; Applicable at the Manufacturers Option Until September 1, 2009

• Section 610: There is no SEIOSNOSE.

• General: No changes are needed. These regulations are cost effective and impose the least burden. NHTSA's plain language review of these rules indicates no need for substantial revision.

49 CFR Part 571.202a—Head Restraints; Mandatory Applicability Begins on September 1, 2009

• Section 610: There is no SEIOSNOSE.

• General: No changes are needed. These regulations are cost effective and impose the least burden. NHTSA's plain language review of these rules indicates no need for substantial revision.

49 CFR Part 571.203—Impact Protection for the Driver From the Steering Control System

• Section 610: There is no SEIOSNOSE.

• General: No changes are needed. These regulations are cost effective and impose the least burden. NHTSA's plain language review of these rules indicates no need for substantial revision.

49 CFR Part 571.204—Steering Control Rearward Displacement

• Section 610: There is no SEIOSNOSE.

• General: No changes are needed. These regulations are cost effective and impose the least burden. NHTSA's plain language review of these rules indicates no need for substantial revision.

49 CFR Part 571.205—Glazing Materials

• Section 610: There is no SEIOSNOSE.

• General: No changes are needed. These regulations are cost effective and impose the least burden. NHTSA's plain language review of these rules indicates no need for substantial revision.

49 CFR Part 571.205a—Glazing Equipment Manufactured Before September 1, 2006 and Glazing Materials Used in Vehicles Manufactured Before November 1, 2006

• Section 610: There is no SEIOSNOSE.

• General: No changes are needed. These regulations are cost effective and impose the least burden. NHTSA's plain language review of these rules indicates no need for substantial revision.

49 CFR Part 571.206—Door Locks and Door Retention Components

• Section 610: There is no SEIOSNOSE.

• General: No changes are needed. These regulations are cost effective and impose the least burden. NHTSA's plain language review of these rules indicates no need for substantial revision.

49 CFR Part 571.207—Seating Systems

• Section 610: There is no SEIOSNOSE.

• General: No changes are needed. These regulations are cost effective and impose the least burden. NHTSA's plain language review of these rules indicates no need for substantial revision.

49 CFR Part 571.208—Occupant Crash Protection

• Section 610: There is no SEIOSNOSE.

• General: No changes are needed. These regulations are cost effective and impose the least burden. NHTSA's plain language review of these rules indicates no need for substantial revision.

49 CFR Part 571.209—Seat Belt Assemblies

• Section 610: There is no SEIOSNOSE.

• General: No changes are needed. These regulations are cost effective and impose the least burden. NHTSA's plain language review of these rules indicates no need for substantial revision.

49 CFR Part 571.210—Seat Belt Assembly Anchorages

• Section 610: There is no SEIOSNOSE.

• General: No changes are needed. These regulations are cost effective and impose the least burden. NHTSA's plain language review of these rules indicates no need for substantial revision.

49 CFR Part 571.211—[Reserved]

49 CFR Part 571.212—Windshield Mounting

• Section 610: There is no SEIOSNOSE.

• General: No changes are needed. These regulations are cost effective and impose the least burden. NHTSA's plain language review of these rules indicates no need for substantial revision.

Year 9 (Fall 2016) List of Rules That Will Be Analyzed During the Next Year

49 CFR part 571.214—Side Impact Protection

49 CFR part 571.215—[Reserved]

49 CFR part 571.216—Roof Crush Resistance; Applicable Unless a Vehicle Is Certified to 571.216a

49 CFR part 571.216a—Roof Crush Resistance; Upgraded Standard

49 CFR part 571.218—Motorcycle Helmets

49 CFR part 571.219—Windshield Zone Intrusion

Federal Railroad Administration

Section 610 and Other Reviews

Year | Regulations to be reviewed | Analysis year | Review year
1 | 49 CFR parts 200 and 201 | 2008 | 2009
2 | 49 CFR parts 207, 209, 211, 215, 238, and 256 | 2009 | 2010
3 | 49 CFR parts 210, 212, 214, 217, and 268 | 2010 | 2011
4 | 49 CFR part 219 | 2011 | 2012
5 | 49 CFR parts 218, 221, 241, and 244 | 2012 | 2013
6 | 49 CFR parts 216, 228, and 229 | 2013 | 2014
7 | 49 CFR parts 223 and 233 | 2014 | 2015
8 | 49 CFR parts 224, 225, 231, and 234 | 2015 | 2016
9 | 49 CFR parts 222, 227, 235, 236, 250, 260, and 266 | 2016 | 2017
10 | 49 CFR parts 213, 220, 230, 232, 239, 240, and 265 | 2017 | 2018

Year 8 (Fall 2015) List of Rules Analyzed and a Summary of Results

49 CFR Part 22—Reflectorization of Rail Freight Rolling Stock

• Section 610: There is no SEIOSNOSE.

• General: The regulation requires freight rolling stock owners and railroads to have all freight rolling properly equipped with retroreflective material within 10 years of the effective date of the final rule for the purpose of enhancing its detectability at highway-rail crossings. Freight rolling stock owners and railroads are also required to periodically inspect and maintain that material. The rule also established a 10-year implementation schedule to help facilitate the initial application of retoreflective material to non-reflectorized freight rolling stock. Further, the regulation prescribes standards for the application, inspection, and maintenance of retroreflective material on rail freight rolling. FRA's plain language review of this rule indicates no need for revision.

49 CFR Part 225—Railroad Accidents/Incidents: Reports Classification and Investigations

• Section 610: There is no SEIOSNOSE. Section 225.3 specifically states that certain Internal Control Plan and recordkeeping requirements are not applicable to railroads below a certain size. FRA makes available a free software package to all railroads that would allow for FRA recordkeeping and reporting. FRA also makes available the FRA Guide for Preparing Accident/Incident Reports, and model Internal Control Plans for small railroads.

• General: Since the FRA needs accurate information on the hazards and risks that exist on the nation's railroads to effectively carry out its regulatory responsibilities, to determine comparative trends of railroad safety, and to develop hazard elimination and risk reduction programs that focus on preventing railroad injuries and accidents, the requirements set forth in part 225 will improve railroad safety for industry employees and general public. FRA's plain language review of this rule indicates no need for substantial revision.

49 CFR Part 231—Railroad Safety Appliances Standards

• Section 610: There is no SEIOSNOSE. Small railroads generally purchase rail equipment that has already been used in transportation by Class I and Class II railroads. As a result, rail equipment used by small railroads is often in compliance with Part 231 standards at the time of acquisition. In addition, small railroads are not substantially affected by rail equipment maintenance costs that are associated with Part 231 requirements because most rail equipment repairs are performed by Class I and Class II railroads and/or billed to the car owner. Although Part 231 may have some impact on small railroads, FRA has deemed any such impact to be necessary to ensure uniform and consistent equipment design requirements, which contribute to the safety of railroad employees who work on or about the rail equipment.

• General: The rule provides for railroad safety standards which are necessary to ensure the protection and safety of railroad employees and general public, and to minimize the number of casualties. FRA's plain language review of this rule indicates no need for substantial revision.

49 CFR Part 234—Grade Crossing Safety

• Section 610: There is no SEIOSNOSE. This rule does not apply to railroads that exclusively operate freight trains only on track which is not part of the general railroad system of transportation, rapid transit operations within an urban area that are not connected to the general railroad system of transportation or railroads that operates passenger trains only on track inside insular installations. Since small railroads have proportionately smaller number of grade crossing warning systems to inspect, test and maintain, therefore, smaller railroads would have a smaller burden of cost per crossing. So far as the State Highway-Rail Grade Crossing Action Plans are concerned, the requirements would apply to States—none of which is small.

• General: Since the rule prescribes maintenance, inspection and testing standards for highway-rail grade crossing warning systems, standards for the reporting of failures of such systems and minimum actions railroads must take when such warning systems malfunction. These regulations are necessary to ensure the protection and safety of railroad employees and general public, and to minimize the number of casualties. FRA's plain language review of this rule indicates no need for substantial revision.

Year 8 (Fall 2015) List of Rule(s) That Will Be Analyzed During Next Year

49 CFR part 222—Use of Locomotive Horns at Public Highway-Rail Grade Crossings

49 CFR part 227—Occupational Noise Exposure

49 CFR part 235—Instructions Governing Applications for Approval of a Discontinuance or Material Modification of a Signal System or Relief From the Requirements of Part 236

49 CFR part 236—Rules, Standards, and Instructions Governing the Installation, Inspection, Maintenance, and Repair of Signal and Train Control Systems, Devices, and Appliances

49 CFR part 250—Guarantee of Certificates of Trustees of Railroads in Reorganization

49 CFR part 260—Regulations Governing Loans and Loan Guarantees Under the Railroad Rehabilitation and Improvement Financing Program

49 CFR part 266—Assistance to States for Local Rail Service Under Section 5 of the Department of Transportation Act

Federal Transit Administration

Section 610 and Other Reviews

Year | Regulations to be reviewed | Analysis year | Review year
1 | 49 CFR parts 604, 605, and 633 | 2008 | 2009
2 | 49 CFR parts 661 and 665 | 2009 | 2010
3 | 49 CFR part 633 | 2010 | 2011
4 | 49 CFR parts 609 and 611 | 2011 | 2012
5 | 49 CFR parts 613 and 614 | 2012 | 2013
6 | 49 CFR part 622 | 2013 | 2014
7 | 49 CFR part 630 | 2014 | 2015
8 | 49 CFR part 639 | 2015 | 2016
9 | 49 CFR parts 659 and 663 | 2016 | 2017
10 | 49 CFR part 665 | 2017 | 2018

Year 8 (Fall 2015) List of Rules Analyzed and Summary of Results

49 CFR Part 639—Capital Leases

• Section 610: The agency has determined that the rule continues to not have a significant effect on a substantial number of small entities. Provisions of the recently enacted Fixing America's Surface Transportation (FAST) Act removed the requirement for a recipient to conduct a cost-effectiveness analysis before entering any lease agreement using Federal capital assistance and removed the applicability of part 639 to rolling stock procurements through capital leases. However, other provisions of part 639 continue to apply. FTA is currently revising the Grant Management Requirements Circular 5010, to provide guidance to recipients for the capital lease program. FTA has evaluated the likely effects of the proposed rule on small entities and requested public comment on proposed revisions to Circular 5010. FTA has determined that the proposed revisions and the current regulation do not have a significant economic impact on a substantial number of small entities.

• General: The rule was promulgated to prescribe requirements and procedures to procure capital assets through lease agreements with the use of Federal capital assistance. Recently, Congress enacted the Fixing America's Surface Transportation Act (FAST), Public Law 114-357, (2015). The statue revised the definition of capital project so that a recipient is no longer required to conduct a cost-effectiveness analysis before leasing public transportation equipment or facilities with Federal funds. In addition, the statue exempts certain rolling stock procurements from the requirements of 49 CFR part 639. FTA has proposed revisions to Circular 5010 and requested public comment on its proposal to conform its capital lease requirements to the FAST Act provisions. Although, the FAST Act has revised some requirements of this part, other provisions of the rule continue to apply.

Year 9 (Fall 2016)—List of Rule(s) That Will Be Analyzed This Year

49 CFR Part 659—State Safety Oversight and 49 CFR Part 663—Pre-Award and Post-Deliver Audits of Rolling Stock Purchases

Maritime Administration

Section 610 and Other Reviews

Year | Regulations to be reviewed | Analysis year | Review year
1 | 46 CFR parts 201 through 205 | 2008 | 2009
2 | 46 CFR parts 221 through 232 | 2009 | 2010
3 | 46 CFR parts 249 through 296 | 2010 | 2011
4 | 46 CFR parts 221, 298, 308, and 309 | 2011 | 2012
5 | 46 CFR parts 307 through 309 | 2012 | 2013
6 | 46 CFR part 310 | 2013 | 2014
7 | 46 CFR parts 315 through 340 | 2014 | 2015
8 | 46 CFR parts 345 through 381 | 2015 | 2016
9 | 46 CFR parts 382 through 389 | 2016 | 2017
10 | 46 CFR parts 390 through 393 | 2017 | 2018

Year 6 (2013) List of Rules Analyzed and a Summary of Results

46 CFR Part 310—Merchant Marine Training

• Section 610: There is no SEIONOSE.

• General: Changes that are being considered require coordination between multiple offices and Maritime educational institutions. Our ongoing review has confirmed that the proposed rule will not apply to small entities.

Year 7 (2014) List of Rules Analyzed and a Summary of Results

46 CFR Parts 315 through 340—Subchapter 1-A—National Shipping Authority

• Section 610 review: There is no SEIOSNOSE.

• General: The agency is preparing a technical final update which will delete obsolete references, including entire parts, and will provide new office and contact information. Our ongoing review has confirmed that this rule will not apply to small entities.

Year 8 (2015) List of Rules Analyzed and a Summary of Results

46 CFR Part 356—Requirements for Vessels Over 100 Feet or Greater in Registered Length To Obtain a Fishery Endorsement to the Vessel's Documentation

• Section 610 review: There is no SEIOSNOSE.

• General: The agency is preparing a final rule which will implement statutorily required updates. Our ongoing review has confirmed that this rule will not apply to small entities.

Year 7 (2014) List of Rules With Ongoing Analysis

46 CFR part 315—Agency Agreements and Appointment of Agents

46 CFR part 317—Bonding of Ship's Personnel

46 CFR part 324—Procedural Rules for Financial Transactions Under Agency Agreements

46 CFR part 325—Procedure to be Followed by General Agents in Preparation of Invoices and Payment of Compensation Pursuant to Provisions of NSA Order No. 47

46 CFR part 326—Marine Protection and Indemnity Insurance Under Agreements with Agents

46 CFR part 327—Seamen's Claims; Administrative Action and Litigation

46 CFR part 328—Slop Chests

46 CFR part 329—Voyage Data

46 CFR part 330—Launch Services

46 CFR part 332—Repatriation of Seaman

46 CFR part 335—Authority and Responsibility of General Agents to Undertake Emergency Repairs in Foreign Ports

46 CFR part 336—Authority and Responsibility of General Agents to Undertake in Continental United States Ports Voyage Repairs and Service Equipment of Vessels Operated for the Account of the National Shipping Authority Under General Agency Agreement

46 CFR part 337—General Agent's responsibility in Connection with Foreign Repair Custom's Entries

46 CFR part 338—Procedure for Accomplishment of Vessel Repairs Under National Shipping Authority Master Lump Sum Repair Contract—NSA—Lumpsumrep

46 CFR part 339—Procedure for Accomplishment of Ship Repairs Under National Shipping Authority Individual Contract for Minor Repairs—NSA—Worksmalrep

46 CFR part 340—Priority Use and Allocation of Shipping Services, Container and Chassis and Port Facilities and Services for National Security and National Defense Related Operations

Year 8 (2015) List of Rules With Ongoing Analysis

46 CFR part 345—Restrictions Upon the Transfer or Change in Use or in Terms Governing Utilization of Port Facilities

46 CFR part 346—Federal Port Controllers

46 CFR part 370—Claims

46 CFR part 381—Cargo Preference—U.S.-Flag Vessels

Year 9 (2016) List of Rules That Will Be Analyzed During the Next Year

46 CFR part 382—Determination of Fair and Reasonable Rates for the Carriage of Bulk and Packaged Preference Cargoes on U.S.-Flag Commercial Vessels

46 CFR part 385—Research and Development Grant and Cooperative Agreements Regulations

46 CFR part 386—Regulations Governing Public Buildings and Grounds at the United States Merchant Marine Academy

46 CFR part 387—Utilization and Disposal of Surplus Federal Real Property for Development or Operation of a Port Facility

46 CFR part 388—Administrative Waivers of the Coastwise Trade Laws

46 CFR part 389—Determination of Availability of Coast-Wise-Qualified Vessels for Transportation of Platform Jackets

Pipeline and Hazardous Materials Safety Administration (PHMSA)

Section 610 and Other Reviews

Year | Regulations to be reviewed | Analysis year | Review year
1 | 49 CFR part 178 | 2008 | 2009
2 | 49 CFR parts 178 through 180 | 2009 | 2010
3 | 49 CFR parts 172 and 175 | 2010 | 2011
4 | 49 CFR part 171, sections 171.15 and 171.16 | 2011 | 2012
5 | 49 CFR parts 106, 107, 171, 190, and 195 | 2012 | 2013
6 | 49 CFR parts 174, 177, 191, and 192 | 2013 | 2014
7 | 49 CFR parts 176 and 199 | 2014 | 2015
8 | 49 CFR parts 172 and 178 | 2015 | 2016
9 | 49 CFR parts 172, 173, 174, 176, 177, and 193 | 2016 | 2017
10 | 49 CFR parts 173 and 194 | 2017 | 2018

Year 8 (Fall 2016) List of Rules Analyzed and a Summary of Results

49 CFR Part 172—Hazardous Materials Table, Special Provisions, Hazardous Materials Communications, Emergency Response Information, Training Requirements, and Security Plans

• Section 610: There is no SEIOSNOSE. A substantial number of small entities may be affected by this rule, but the economic impact on those entities is not significant. Plain Language: PHMSA's plain language review of this rule indicates no need for substantial revision. Where confusing or wordy language has been identified, revisions have been and will be made to simplify.

• General: This rule prescribes minimum requirements for the communication of risks associated with materials classed as hazardous in accordance with the Hazardous Materials Regulations (HMR; 49 CFR parts 171-180). On June 2, 2016 PHMSA published a final rule entitled “Hazardous Materials: Miscellaneous Amendments (RRR)” 81 FR 35483. As this final rule clarifies provisions based on PHMSA's initiatives and correspondence with the regulated community, the impact that it will have on small entities is not expected to be significant. The changes are generally intended to provide relief and, as a result, marginal positive economic benefits to shippers, carriers, and packaging manufactures and testers, including small entities. These benefits are not at a level that can be considered economically significant. Consequently, this final rule will not have a significant economic impact on a substantial number of small entities. PHMSA's plain language review of this rule indicates no need for substantial revision.

49 CFR Part 178—Specifications for Packagings

• Section 610: There is no SEIOSNOSE. A substantial number of small entities, particularly those that use performance oriented packagings, may be affected by this rule, but the economic impact on those entities is not significant.

• General: This rule prescribes minimum Federal safety standards for the construction of DOT specification packagings, these requirements are necessary to protect transportation workers and the public and to ensure the survivability of DOT specification packagings during transportation incidents. PHMSA's plain language review of this rule indicates no need for substantial revision.

Year 9 (Fall 2017) List of Rules That Will Be Analyzed During the Next Year

49 CFR part 172—Hazardous Materials Table, Special Provisions, Hazardous Materials Communications, Emergency Response Information, Training Requirements, and Security Plans

49 CFR part 173—Shippers—General Requirements for Shipments and Packagings

49 CFR part 174—Carriage by Rail

49 CFR part 176—Carriage by Vessel

49 CFR part 177—Carriage by Public Highway

49 CFR part 193—Liquefied Natural Gas Faculties: Federal Safety Standards

Saint Lawrence Seaway Development Corporation

Section 610 and Other Reviews

Year | Regulations to be reviewed | Analysis year | Review year
1 | 33 CFR parts 401 through 403 | 2008 | 2009

Year 1 (Fall 2008) List of Rules With Ongoing Analysis

33 CFR part 401—Seaway Regulations and Rules

33 CFR part 402—Tariff of Tolls

33 CFR part 403—Rules of Procedure of the Joint Tolls Review Board

Office of the Secretary—Final Rule Stage
Sequence No. | Title | Regulation Identifier No.
355 | + Enhancing Airline Passenger Protections III | 2105-AE11
+ DOT-designated significant regulation

Federal Aviation Administration—Prerule Stage
Sequence No. | Title | Regulation Identifier No.
356 | + Applying the Flight, Duty, and Rest Rules of 14 CFR Part 135 to Tail-End Ferry Operations (FAA Reauthorization | 2120-AK26
+ DOT-designated significant regulation

Federal Aviation Administration—Proposed Rule Stage
Sequence No. | Title | Regulation Identifier No.
357 | + Airport Safety Management System (Reg Plan Seq No. 88) | 2120-AJ38
358 | + Drug and Alcohol Testing of Certain Maintenance Provider Employees Located Outside of the United States | 2120-AK09
359 | + Applying the Flight, Duty, and Rest Requirements to Ferry Flights That Follow Domestic, Flag, or Supplemental All-Cargo Operations (Reauthorization) | 2120-AK22
360 | + Pilot Records Database (HR 5900) | 2120-AK31
361 | + Aircraft Registration and Airmen Certification Fees | 2120-AK37
362 | Qualification, Service, and Use of Crewmembers and Aircraft Dispatchers—Related Aircraft Amendment | 2120-AK95
+ DOT-designated significant regulation
References in boldface appear in The Regulatory Plan in part II of this issue of the Federal Register.

Federal Aviation Administration—Final Rule Stage
Sequence No. | Title | Regulation Identifier No.
363 | + Revision of Airworthiness Standards for Normal, Utility, Acrobatic, and Commuter Category Airplanes (RRR) (Reg Plan Seq No. 90) | 2120-AK65
+ DOT-designated significant regulation
References in boldface appear in The Regulatory Plan in part II of this issue of the Federal Register.

Federal Aviation Administration—Completed Actions
Sequence No. | Title | Regulation Identifier No.
364 | + Operation and Certification of Small Unmanned Aircraft Systems | 2120-AJ60
365 | Changing the Collective Risk Limits for Launches and Reentries and Clarifying the Risk Limit Used to Establish Hazard Areas for Ships and Aircraft | 2120-AK06
366 | Reciprocal Waivers of Claims for Licensed or Permitted Launch and Reentry Activities (RRR) | 2120-AK44
367 | + Prohibition Against Certain Flights in the Simferopol (UKFV) and Dnipropetrovsk (UKDV) Flight Information Regions (FIRs) (Section 610 Review) | 2120-AK92
+ DOT-designated significant regulation

Federal Motor Carrier Safety Administration—Final Rule Stage
Sequence No. | Title | Regulation Identifier No.
368 | + Commercial Driver's License Drug and Alcohol Clearinghouse (MAP-21) | 2126-AB18
369 | + Entry-Level Driver Training (Section 610 Review) (Reg Plan Seq No. 93) | 2126-AB66
+ DOT-designated significant regulation
References in boldface appear in The Regulatory Plan in part II of this issue of the Federal Register.

Federal Motor Carrier Safety Administration—Long-Term Actions
Sequence No. | Title | Regulation Identifier No.
370 | + Carrier Safety Fitness Determination | 2126-AB11
+ DOT-designated significant regulation

Federal Motor Carrier Safety Administration—Completed Actions
Sequence No. | Title | Regulation Identifier No.
371 | Parts and Accessories Necessary for Safe Operation; Windshield-Mounted Technologies, Final Rule (Section 610 Review) | 2126-AB94

Federal Railroad Administration—Proposed Rule Stage
Sequence No. | Title | Regulation Identifier No.
372 | + Passenger Equipment Safety Standards Amendments (RRR) | 2130-AC46
+ DOT-designated significant regulation

Federal Railroad Administration—Final Rule Stage
Sequence No. | Title | Regulation Identifier No.
373 | + Train Crew Staffing and Location | 2130-AC48
+ DOT-designated significant regulation

Federal Transit Administration—Completed Actions
Sequence No. | Title | Regulation Identifier No.
374 | + Transit Asset Management | 2132-AB07
+ DOT-designated significant regulation

Pipeline and Hazardous Materials Safety Administration—Proposed Rule Stage
Sequence No. | Title | Regulation Identifier No.
375 | + Pipeline Safety: Amendments to Parts 192 and 195 to Require Valve Installation and Minimum Rupture Detection Standards | 2137-AF06
376 | + Hazardous Materials: Sampling and Testing Requirements for Unrefined Petroleum Products | 2137-AF28
+ DOT-designated significant regulation

Pipeline and Hazardous Materials Safety Administration—Final Rule Stage
Sequence No. | Title | Regulation Identifier No.
377 | +Pipeline Safety: Safety of Hazardous Liquid Pipelines (Reg Plan Seq No. 99) | 2137-AE66
378 | Pipeline Safety: Issues Related to the Use of Plastic Pipe in Gas Pipeline Industry (RRR) | 2137-AE93
379 | Pipeline Safety: Operator Qualification, Cost Recovery, Accident and Incident Notification, and Other Changes (RRR) | 2137-AE94
380 | + Hazardous Materials: Oil Spill Response Plans and Information Sharing for High-Hazard Flammable Trains (Reg Plan Seq No. 100) | 2137-AF08
+ DOT-designated significant regulation
References in boldface appear in The Regulatory Plan in part II of this issue of the Federal Register.

Maritime Administration—Long-Term Actions
Sequence No. | Title | Regulation Identifier No.
381 | + Cargo Preference | 2133-AB74
+ DOT-designated significant regulation

DEPARTMENT OF TRANSPORTATION (DOT)

Office of the Secretary (OST)

Final Rule Stage

355. +Enhancing Airline Passenger Protections III

Legal Authority: 49 U.S.C. 41712; 49 U.S.C. 40101; 49 U.S.C. 41702

Abstract: The rulemaking previously titled “Airline Pricing Transparency and Other Consumer Protection Issues” has been separated into three proceedings. This final rule would address the following topics from the notice of proposed rulemaking issued on May 23, 2014: The scope of carriers required to report service quality data, reporting of mainline carriers' domestic code-share partner operations; the statutory requirement that carriers and ticket agents disclose any code-share arrangements on their Web sites; undisclosed biasing by carriers and ticket agents in electronic displays of flight search results; and disclosure by ticket agents of the carriers whose tickets they sell in order to avoid having consumers mistakenly believe they are searching all possible flight options for a particular city-pair market when in fact there may be other options available. Additionally, the rulemaking would correct drafting errors and make a few clarifying changes to the Department's second Enhancing Airline Passenger Protections rule. Two other proceedings will address other provisions identified in the 2014 NPRM. See RIN 2105-AE56, Transparency of Airline Ancillary Service Fees; and RIN 2105-AE57, Enhancing Airline Passenger Protections IV. These rulemakings address unrelated matters and were separated into three proceedings to avoid the risk of any delay in finalizing one issue resulting in a delay in finalizing other issues.

Timetable:

Action | Date | FR Cite
NPRM | 05/23/14 | 79 FR 29970
Final Rule | 11/00/16 |

Regulatory Flexibility Analysis Required: Yes.

Agency Contact: Blane A. Workie, Principal Deputy Assistant General Counsel, Department of Transportation, Office of the Secretary, 1200 New Jersey Avenue SE., Washington, DC 20590, Phone: 202 366-9342, TDD Phone: 202 755-7687, Fax: 202 366-7152, Email: blane.workie@dot.gov.

RIN: 2105-AE11

BILLING CODE 4910-9X-P

DEPARTMENT OF TRANSPORTATION (DOT)

Federal Aviation Administration (FAA)

Prerule Stage

356. +Applying the Flight, Duty, and Rest Rules of 14 CFR Part 135 to Tail-End Ferry Operations (FAA Reauthorization)

Legal Authority: 49 U.S.C. 106(g); 49 U.S.C. 1153; 49 U.S.C. 40101 to 40103; 49 U.S.C. 40113; 49 U.S.C. 41706; 49 U.S.C. 44105 to 44106; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable:

Action | Date | FR Cite
ANPRM | 03/00/17 |

Regulatory Flexibility Analysis Required: Yes.

Agency Contact: Dale Roberts, Department of Transportation, Federal Aviation Administration, 800 Independence Avenue SW., Washington, DC 20591, Phone: 202 267-5749, Email: dale.roberts@faa.gov.

RIN: 2120-AK26

DEPARTMENT OF TRANSPORTATION (DOT)

Federal Aviation Administration (FAA)

Proposed Rule Stage

357. +Airport Safety Management System

Regulatory Plan: This entry is Seq. No. 88 in part II of this issue of the Federal Register.

RIN: 2120-AJ38

358. +Drug and Alcohol Testing of Certain Maintenance Provider Employees Located Outside of the United States

Legal Authority: 14 CFR; 49 U.S.C. 106(g); 49 U.S.C. 40113; 49 U.S.C. 44701 to 44702; 49 U.S.C. 44707; 49 U.S.C. 44709; 49 U.S.C. 44717

Abstract: This rulemaking is required by the FAA Modernization and Reform 2012. It would require controlled substance testing of some employees working in repair stations located outside the United States. The intended effect is to increase participation by companies outside of the United States in testing of employees who perform safety critical functions and testing standards similar to those used in the repair stations located in the United States. This action is necessary to increase the level of safety of the flying public. This rulemaking is required by the FAA Modernization and Reform Act of 2012.

Timetable:

Action | Date | FR Cite
ANPRM | 03/17/14 | 79 FR 14621
Comment Period Extended | 05/01/14 | 79 FR 24631
ANPRM Comment Period End | 05/16/14 |
Comment Period End | 07/17/14 |
NPRM | 05/00/17 |

Regulatory Flexibility Analysis Required: Yes.

Agency Contact: Vicky Dunne, Department of Transportation, Federal Aviation Administration, 800 Independence Avenue SW., Washington, DC 20591, Phone: 202 267-8522, Email: vicky.dunne@faa.gov.

RIN: 2120-AK09

359. +Applying the Flight, Duty, and Rest Requirements to Ferry Flights That Follow Domestic, Flag, or Supplemental All-Cargo Operations (Reauthorization)

Legal Authority: 49 U.S.C. 106(g); 49 U.S.C. 40113; 49 U.S.C. 40119; 49 U.S.C. 41706; 49 U.S.C. 44101; 49 U.S.C. 44701 to 44702; 49 U.S.C. 44705; 49 U.S.C. 44709 to 44711; 49 U.S.C. 44713; 49 U.S.C. 44716 to 44717

Abstract: This rulemaking would require a flightcrew member who accepts an additional assignment for flying under part 91 from the air carrier or from any other air carrier conducting operations under part 121 or 135 of such title, to apply the period of the additional assignment toward any limitation applicable to the flightcrew member relating to duty periods or flight times. This rule is necessary as it will make part 121 flight, duty, and rest limits applicable to tail-end ferries that follow an all-cargo flight.

Timetable:

Action | Date | FR Cite
NPRM | 05/00/17 |

Regulatory Flexibility Analysis Required: Yes.

Agency Contact: Dale Roberts, Department of Transportation, Federal Aviation Administration, 800 Independence Avenue SW., Washington, DC 20591, Phone: 202 267-5749, Email: dale.roberts@faa.gov.

RIN: 2120-AK22

360. +Pilot Records Database (HR 5900)

Legal Authority: 49 U.S.C. 106(g); 49 U.S.C. 1155; 49 U.S.C. 40103; 49 U.S.C. 40113; 49 U.S.C. 40119 to 40120; 49 U.S.C. 41706; 49 U.S.C. 44101; 49 U.S.C. 44111; 49 U.S.C. 44701 to 44705; 49 U.S.C. 44709 to 44713; 49 U.S.C. 44715 to 44717; 49 U.S.C. 44722; 49 U.S.C. 45101 to 45105; 49 U.S.C. 46105; 49 U.S.C. 46306; 49 U.S.C. 46315 to 46316; 49 U.S.C. 46504; 49 U.S.C. 46507; 49 U.S.C. 47122; 49 U.S.C. 47508; 49 U.S.C. 47528 to 47531

Abstract: This rulemaking would implement a Pilot Records Database as required by Public Law 111-216 (Aug. 1, 2010). Section 203 amends the Pilot Records Improvement Act by requiring the FAA to create a pilot records database that contains various types of pilot records. These records would be provided by the FAA, air carriers, and other persons who employ pilots. The FAA must maintain these records until it receives notice that a pilot is deceased. Air carriers would use this database to perform a record check on a pilot prior to making a hiring decision.

Timetable:

Action | Date | FR Cite
NPRM | 03/00/17 |

Regulatory Flexibility Analysis Required: Yes.

Agency Contact: Bradley Palmer, Department of Transportation, Federal Aviation Administration, 800 Independence Avenue SW., Washington, DC 20591, Phone: 202 267-7739, Email: bradley.palmer@faa.gov.

RIN: 2120-AK31

361. +Aircraft Registration and Airmen Certification Fees

Legal Authority: 31 U.S.C. 9701; 4 U.S.T. 1830; 49 U.S.C. 106(f); 49 U.S.C. 106(g); 49 U.S.C. 106(l)(6); 49 U.S.C. 40104 to 40105; 49 U.S.C. 40109; 49 U.S.C. 40113 to 40114; 49 U.S.C. 44101 to 44108; 49 U.S.C. 44110 to 44113; 49 U.S.C. 44701 to 44704; 49 U.S.C. 44707; 49 U.S.C. 44709 to 44711; 49 U.S.C. 44713; 49 U.S.C. 45102 to 45103; 49 U.S.C. 45301 to 45302; 49 U.S.C. 45305; 49 U.S.C. 46104; 49 U.S.C. 46301; Pub. L. 108-297, 118 Stat. 1095

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
NPRM | 04/00/17 |

Regulatory Flexibility Analysis Required: Yes.

Agency Contact: Mary Lu, Department of Transportation, Federal Aviation Administration, 800 Independence Avenue SW., Washington, DC 20591, Phone: 202 267-7965, Email: mary.lu@faa.gov.

RIN: 2120-AK37

362. • Qualification, Service, and Use of Crewmembers and Aircraft Dispatchers—Related Aircraft Amendment

Legal Authority: 49 U.S.C. 106(f); 49 U.S.C. 106(g); 49 U.S.C. 40103; 49 U.S.C. 40113; 49 U.S.C. 40119; 49 U.S.C. 41706; 49 U.S.C. 42301

Abstract: This rulemaking would allow air carriers to seek a deviation from the flight simulation training device (FSTD) requirements for related aircraft proficiency checks. In doing so, it corrects an inadvertent omission from the Qualification, Service, and Use of Crewmembers and Aircraft Dispatchers final rule that allowed air carriers to modify training program requirements for flightcrew members operating multiple aircraft types with similar design and flight handling characteristics.

Timetable:

Action | Date | FR Cite
NPRM | 12/00/16 |

Regulatory Flexibility Analysis Required: Yes.

Agency Contact: Sheri Pippin, Department of Transportation, Federal Aviation Administration, 15000 Aviation Boulevard, Lawndale, CA 90261, Phone: 310 725-7342, Email: sheri.pippin@faa.gov.

RIN: 2120-AK95

DEPARTMENT OF TRANSPORTATION (DOT)

Federal Aviation Administration (FAA)

Final Rule Stage

363. +Revision of Airworthiness Standards for Normal, Utility, Acrobatic, and Commuter Category Airplanes (RRR)

Regulatory Plan: This entry is Seq. No. 90 in part II of this issue of the Federal Register.

RIN: 2120-AK65

DEPARTMENT OF TRANSPORTATION (DOT)

Federal Aviation Administration (FAA)

Completed Actions

364. +Operation and Certification of Small Unmanned Aircraft Systems

Legal Authority: 49 U.S.C. 44701; Pub. L. 112-95

Abstract: This rulemaking would allow the commercial operation of small unmanned aircraft systems (small UAS) in the National Airspace System (NAS). These changes would address the operation of small unmanned aircraft systems, certification of their operators, registration of the small unmanned aircraft, and display of registration markings. This action would also find airworthiness certification is not required for small unmanned aircraft system operations subject to this rulemaking.

Timetable:

Action | Date | FR Cite
NPRM | 02/23/15 | 80 FR 9544
NPRM Comment Period End | 04/24/15 |
Final Rule | 06/28/16 | 81 FR 42063
Final Rule Effective | 08/29/16 |

Regulatory Flexibility Analysis Required: Yes.

Agency Contact: Lance Nuckolls, Unmanned Aircraft Systems Integration Office, Department of Transportation, Federal Aviation Administration, 490 L'Enfant Plaza SW., Washington, DC 20024, Phone: 202-267-8447, Email: UAS-rule@faa.gov.

RIN: 2120-AJ60

365. Changing the Collective Risk Limits for Launches and Reentries and Clarifying the Risk Limit Used To Establish Hazard Areas for Ships and Aircraft

Legal Authority: 51 U.S.C. 50901 to 50923

Abstract: This rulemaking would revise the requirements that: (1) Establish quantitative public risk acceptability criteria that treat launch and reentry separately; (2) define the scope of launch and reentry mission for the purposes of quantitative risk analyses (QRA); and (3) apply QRA requirements, including uncertainty analysis, equally to all types of launch and reentry vehicles. These revisions update the current regulations and are consistent with current practices at the Federal ranges.

Timetable:

Action | Date | FR Cite
NPRM | 07/21/14 | 79 FR 42241
NPRM Comment Period End | 10/20/14 |
Final Rule | 07/20/16 | 81 FR 47017
Final Rule Effective | 09/19/16 |

Regulatory Flexibility Analysis Required: Yes.

Agency Contact: Rene Rey, Licensing and Safety Division, Office of Commercial Space, Department of Transportation, Federal Aviation Administration, 800 Independence Avenue SW., Washington, DC 20590, Phone: 202 267-7538, Email: rene.rey@faa.gov.

RIN: 2120-AK06

366. Reciprocal Waivers of Claims for Licensed or Permitted Launch and Reentry Activities (RRR)

Legal Authority: 49 U.S.C. 322; 51 U.S.C. 50910 to 50923

Abstract: This rulemaking would ensure customers are waiving claims against all other customers involved in a launch or reentry; reduce the need for operators to request a partial waiver of the reciprocal waiver of claims requirements and for the FAA to process those requests; and provide a reciprocal waiver template for permittees with no customers, reducing the need for the FAA to assist such a permittee in drafting its cross waivers.

Timetable:

Action | Date | FR Cite
NPRM | 01/13/15 | 80 FR 2015
NPRM Comment Period End | 03/16/15 |
NPRM Comment Period Reopened | 06/15/15 | 80 FR 34110
Comment Period End | 07/15/15 |
Final Rule | 08/18/16 | 81 FR 55115
Final Rule Effective | 10/17/16 |

Regulatory Flexibility Analysis Required: Yes.

Agency Contact: Shirley McBride, Department of Transportation, Federal Aviation Administration, 800 Independence Avenue SW., Washington, DC 20591, Phone: 202 267-7470, Email: shirley.mcbride@faa.gov.

RIN: 2120-AK44

367. • +Prohibition Against Certain Flights in the Simferopol (UKFV) and Dnipropetrovsk (UKDV) Flight Information Regions (FIRS) (Section 610 Review)

Legal Authority: 126 Stat. 11; 49 U.S.C. 106(f); 49 U.S.C. 106(g); 49 U.S.C. 1155; 49 U.S.C. 40101; 49 U.S.C. 40103; 49 U.S.C. 40120; 49 U.S.C. 44101; 49 U.S.C. 44101; 49 U.S.C. 44111; 49 U.S.C. 44701; 49 U.S.C. 44704; 49 U.S.C. 44709; 49 U.S.C. 44711; 49 U.S.C. 44712; 49 U.S.C. 44715 to 44717; 49 U.S.C. 44722; 49 U.S.C. 46306; 49 U.S.C. 46315; 49 U.S.C. 46316; 49 U.S.C. 46504; 49 U.S.C. 46506; 49 U.S.C. 46507; 49 U.S.C. 47122; 49 U.S.C. 47508; 49 U.S.C. 47528 to 47531; 49 U.S.C. 47534; 61 Stat. 1180

Abstract: This action extends the expiration date of the Prohibition Against Certain Flights in the Simferopol (UKFV) and Dnipropetrovsk (UKDV) Flight Information Regions (FIRs). This action is necessary to continue the prohibition on flight operations in the Simferopol (UKFV) and Dnipropetrovsk (UKDV) FIRs by all U.S. air carriers, U.S. commercial operators, persons exercising the privileges of a U.S. airman certificate, except when such persons are operating a U.S.-registered aircraft for a foreign air carrier, and operators of U.S.-registered civil aircraft, except when such operators are foreign air carriers. The FAA finds this action also necessary to address a continuing hazard to persons and aircraft engaged in such flight operations.

Timetable:

Action | Date | FR Cite
Final Rule Effective | 10/17/16 |
Final Rule | 10/27/16 | 81 FR 74671

Regulatory Flexibility Analysis Required: No.

Agency Contact: Michelle Ferritto, Department of Transportation, Federal Aviation Administration, 800 Independence Ave. SW., Washington, DC 20591, Phone: 202-267-8673, Email: michelle.ferritto@faa.gov.

RIN: 2120-AK92

BILLING CODE 4910-13-P

DEPARTMENT OF TRANSPORTATION (DOT)

Federal Motor Carrier Safety Administration (FMCSA)

Final Rule Stage

368. +Commercial Driver's License Drug and Alcohol Clearinghouse(MAP-21)

Legal Authority: 49 U.S.C. 31306

Abstract: This rulemaking would create a central database for verified positive controlled substances and alcohol test results for commercial driver´s license (CDL) holders and refusals by such drivers to submit to testing. This rulemaking would require employers of CDL holders and service agents to report positive test results and refusals to test into the Clearinghouse. Prospective employers, acting on an application for a CDL driver position with the applicant´s written consent to access the Clearinghouse, would query the Clearinghouse to determine if any specific information about the driver applicant is in the Clearinghouse before allowing the applicant to be hired and to drive CMVs. This rulemaking is intended to increase highway safety by ensuring CDL holders, who have tested positive or have refused to submit to testing, have completed the U.S. DOT's return-to-duty process before driving CMVs in interstate or intrastate commerce. It is also intended to ensure that employers are meeting their drug and alcohol testing responsibilities. Additionally, provisions in this rulemaking would also be responsive to requirements of the Moving Ahead for Progress in the 21st Century (MAP-21) Act. MAP-21 required creation of the Clearinghouse by 10/1/14.

Timetable:

Action | Date | FR Cite
NPRM | 02/20/14 | 79 FR 9703
Comment Period End | 04/21/14 |
Comment Period End | 04/22/14 | 79 FR 22467
Comment Period Extended | 04/22/14 | 79 FR 22467
Final Rule | 11/00/16 |

Regulatory Flexibility Analysis Required: Yes.

Agency Contact: Juan Moya, Department of Transportation, Federal Motor Carrier Safety Administration, 1200 New Jersey Avenue SE., Washington, DC 20590, Phone: 202 366-4844, Email: juan.moya@dot.gov.

RIN: 2126-AB18

369. +Entry-Level Driver Training (Section 610 Review)

Regulatory Plan: This entry is Seq. No. 93 in part II of this issue of the Federal Register.

RIN: 2126-AB66

DEPARTMENT OF TRANSPORTATION (DOT)

Federal Motor Carrier Safety Administration (FMCSA)

Long-Term Actions

370. +Carrier Safety Fitness Determination

Legal Authority: 49 U.S.C. 31144; Section 4009 of TEA-21

Abstract: FMCSA proposes to amend the Federal Motor Carrier Safety Regulations (FMCSRs) to adopt revised methodologies that would result in a safety fitness determination (SFD). The proposed methodologies would determine when a motor carrier is not fit to operate commercial motor vehicles (CMVs) in or affecting interstate commerce based on: (1) The carrier's on-road safety performance in relation to five of the Agency's seven Behavioral Analysis and Safety Improvement Categories (BASICs); (2) an investigation; or (3) a combination of on-road safety data and investigation information. The intended effect of this action is to more effectively use FMCSA data and resources to identify unfit motor carriers and to remove them from the Nation's roadways.

Timetable:

Action | Date | FR Cite
NPRM | 01/21/16 | 81 FR 3561
NPRM Comment Period Extended | 03/08/16 | 81 FR 12062
NPRM Comment Period End | 03/21/16 |
NPRM Extended Comment Period End | 05/23/16 |
Next Action Undetermined |  |

Regulatory Flexibility Analysis Required: Yes.

Agency Contact: David Miller, Regulatory Development Division, Department of Transportation, Federal Motor Carrier Safety Administration, 1200 New Jersey Avenue SE., Washington, DC 20590, Phone: 202 366-5370, Email: fmcsaregs@dot.gov.

RIN: 2126-AB11

DEPARTMENT OF TRANSPORTATION (DOT)

Federal Motor Carrier Safety Administration (FMCSA)

Completed Actions

371. • Parts and Accessories Necessary for Safe Operation; Windshield-Mounted Technologies, Final Rule (Section 610 Review)

Legal Authority: Pub. L. 114-94

Abstract: FMCSA amends the Federal Motor Carrier Safety Regulations (FMCSRs) to allow the voluntary mounting of certain devices on the interior of the windshields of commercial motor vehicles (CMVs), including placement within the area that is swept by the windshield wipers. The Fixing America's Surface Transportation (FAST) Act directs FMCSA to amend the FMCSRs to allow, on a permanent basis, devices/technologies the Agency previously determined are likely to achieve a level of safety equivalent to or greater than the level of safety that would be achieved without the devices—FMCSA previously granted limited two-year exemptions for these devices. And the statute provides a definition of “vehicle safety technology” which encompasses several technologies the Agency must allow to be installed in the windshield.

Timetable:

Action | Date | FR Cite
Final Rule | 09/23/16 | 81 FR 65568
Final Rule Effective | 10/24/16 |

Regulatory Flexibility Analysis Required: No.

Agency Contact: Luke Loy, Office of Bus and Truck Standards and Operations, Department of Transportation, Federal Motor Carrier Safety Administration, 1200 New Jersey Avenue SE., Washington, DC 20590, Phone: 202 366-0676, Fax: 202 366-8842, Email: luke.loy@dot.gov.

RIN: 2126-AB94

BILLING CODE 4910-EX-P

DEPARTMENT OF TRANSPORTATION (DOT)

Federal Railroad Administration (FRA)

Proposed Rule Stage

372. +Passenger Equipment Safety Standards Amendments (RRR)

Legal Authority: 49 U.S.C. 20103

Abstract: This rulemaking would amend 49 CFR part 238 to update existing safety standards for passenger rail equipment. Specifically, the proposed rulemaking would add standards for alternative compliance with requirements for Tier I passenger equipment, increase the maximum authorized speed for Tier II passenger equipment, and add requirements for a new Tier III category of passenger equipment.

Timetable:

Action | Date | FR Cite
NPRM | 11/00/16 |

Regulatory Flexibility Analysis Required: Yes.

Agency Contact: Kathryn Shelton, Trial Attorney, Department of Transportation, Federal Railroad Administration, 1200 New Jersey Avenue SE., Washington, DC 20590, Phone: 202 493-6063, Email: kathryn.shelton@fra.dot.gov.

RIN: 2130-AC46

DEPARTMENT OF TRANSPORTATION (DOT)

Federal Railroad Administration (FRA)

Final Rule Stage

373. +Train Crew Staffing and Location

Legal Authority: 28 U.S.C. 2461, note; 49 CFR 1.89; 49 U.S.C. 20103; 49 U.S.C. 20107; 49 U.S.C. 21301 to 21302; 49 U.S.C. 21304

Abstract: This rulemaking would add minimum requirements for the size of different train crew staffs depending on the type of operation. The minimum crew staffing requirements would reflect the safety risks posed to railroad employees, the general public, and the environment. This rulemaking would also establish minimum requirements for the roles and responsibilities of the second train crew member on a moving train, and promote safe and effective teamwork. Additionally, this rulemaking would permit a railroad to submit information to FRA and seek approval if it wants to continue an existing operation with a one-person train crew or start up an operation with less than two crew members.

Timetable:

Action | Date | FR Cite
NPRM | 03/15/16 | 81 FR 13918
NPRM Comment Period End | 05/16/16 |
Final Rule | 01/00/17 |

Regulatory Flexibility Analysis Required: Yes.

Agency Contact: Kathryn Shelton, Trial Attorney, Department of Transportation, Federal Railroad Administration, 1200 New Jersey Avenue SE., Washington, DC 20590, Phone: 202 493-6063, Email: kathryn.shelton@fra.dot.gov.

RIN: 2130-AC48

BILLING CODE 4910-06-P

DEPARTMENT OF TRANSPORTATION (DOT)

Federal Transit Administration (FTA)

Completed Actions

374. +Transit Asset Management

Legal Authority: 49 U.S.C. 5326(d)

Abstract: This rule will establish a system for Transit Asset Management (TAM) for all operators of public transportation, for all modes of transportation throughout the United States. This national system will be based on the term “State of Good Repair,” to be developed through rulemaking, which will generate accurate data about the condition of the transit agencies' assets, and performance measures for improving the conditions of those assets.

Timetable:

Action | Date | FR Cite
ANPRM | 10/03/13 | 78 FR 61251
ANPRM Comment Period End | 01/02/14 |
NPRM | 09/30/15 | 80 FR 58912
Final Rule | 07/26/16 | 81 FR 48890
Final Rule Effective | 10/01/16 |

Regulatory Flexibility Analysis Required: Yes.

Agency Contact: Bonnie Graves, Attorney Advisor, Department of Transportation, Federal Transit Administration, 1200 New Jersey Avenue SE., Washington, DC 20590, Phone: 202 366-0644, Email: bonnie.graves@fta.dot.gov.

RIN: 2132-AB07

BILLING CODE 4910-57-P

DEPARTMENT OF TRANSPORTATION (DOT)

Pipeline and Hazardous Materials Safety Administration (PHMSA)

Proposed Rule Stage

375. +Pipeline Safety: Amendments to Parts 192 and 195 To Require Valve Installation and Minimum Rupture Detection Standards

Legal Authority: 49 U.S.C. 60101 et seq.

Abstract: This rule would propose installation of automatic shutoff valves, remote controlled valves, or equivalent technology and establish performance based meaningful metrics for rupture detection for gas and liquid transmission pipelines. The overall intent is that rupture detection metrics will be integrated with ASV and RCV placement with the objective of improving overall incident response. Rupture response metrics would focus on mitigating large, unsafe, uncontrolled release events that have a greater potential consequence. The areas proposed to be covered include High Consequence Areas (HCA) for hazardous liquids and HCA, Class 3 and 4 for natural gas (including could affect areas).

Timetable:

Action | Date | FR Cite
NPRM | 05/00/17 |

Regulatory Flexibility Analysis Required: Yes.

Agency Contact: Robert Jagger, Technical Writer, Department of Transportation, Pipeline and Hazardous Materials Safety Administration, 1200 New Jersey Avenue SE., Washington, DC 20590, Phone: 202 366-4595, Email: robert.jagger@dot.gov.

RIN: 2137-AF06

376. • +Hazardous Materials: Sampling and Testing Requirements for Unrefined Petroleum Products

Legal Authority: 49 U.S.C. 5101 et seq.

Abstract: This rulemaking proposes to revise the Hazardous Materials Regulations (HMR) to apply particular methods for conducting vapor pressure testing and sampling of unrefined petroleum-based products, such as petroleum crude oil. Specifically, this rulemaking proposes that persons who offer unrefined petroleum-based products for transportation, regardless of mode of transportation, apply particular methods for conducting vapor pressure testing when vapor pressure testing is a component of their written testing program. PHMSA encourages persons to participate in this rulemaking by submitting comments containing relevant information, data, or views.

Timetable:

Action | Date | FR Cite
NPRM | 12/00/16 |

Regulatory Flexibility Analysis Required: Yes.

Agency Contact: Ben Supko, Transportation Regulations Specialist, Department of Transportation, Pipeline and Hazardous Materials Safety Administration, 1200 New Jersey Avenue SE., Washington, DC 20590, Phone: 202-366-8553, Email: ben.supko@dot.gov.

RIN: 2137-AF28

DEPARTMENT OF TRANSPORTATION (DOT)

Pipeline and Hazardous Materials Safety Administration (PHMSA)

Final Rule Stage

377. +Pipeline Safety: Safety of Hazardous Liquid Pipelines

Regulatory Plan: This entry is Seq. No. 99 in part II of this issue of the Federal Register.

RIN: 2137-AE66

378. Pipeline Safety: Issues Related to the Use of Plastic Pipe in Gas Pipeline Industry (RRR)

Legal Authority: 49 U.S.C. 60101 et seq.

Abstract: In this rule, PHMSA is amending the natural and other gas pipeline safety regulations (49 CFR part 192) to address regulatory requirements involving plastic piping systems used in gas services. These amendments are intended to correct errors, address inconsistencies, and respond to petitions for rulemaking. The requirements in several subject matter areas are affected, including incorporation of tracking and traceability provisions; design factor for polyethylene (PE) pipe; more stringent mechanical fitting requirements; updated and additional regulations for risers; expanded use of Polyamide-11 (PA-11) thermoplastic pipe; incorporation of newer Polyamide-12 (PA-12) thermoplastic pipe; and incorporation of updated and additional standards for fittings.

Timetable:

Action | Date | FR Cite
NPRM | 05/21/15 | 80 FR 29263
NPRM Comment Period End | 07/31/15 |
Final Rule | 12/00/16 |

Regulatory Flexibility Analysis Required: Yes.

Agency Contact: Cameron H. Satterthwaite, Transportation Regulations Specialist, Department of Transportation, Pipeline and Hazardous Materials Safety Administration, 1200 New Jersey Avenue SE., Washington, DC 20590, Phone: 202-366-8553, Email: cameron.satterthwaite@dot.gov.

RIN: 2137-AE93

379. Pipeline Safety: Operator Qualification, Cost Recovery, Accident and Incident Notification, and Other Changes (RRR)

Legal Authority: 49 U.S.C. 60101 et seq.

Abstract: PHMSA is amending the pipeline safety regulations to address requirements of the Pipeline Safety, Regulatory Certainty, and Job Creation Act of 2011 (2011 Act), and to update and clarify certain regulatory requirements. Under the 2011 Act, PHMSA is adding a specific time frame for telephonic or electronic notifications of accidents and incidents and adding provisions for cost recovery for design reviews of certain new projects. Among other provisions, PHMSA is adding a procedure for renewal of expiring special permits, and for submitters of information requesting PHMSA to keep some information confidential. In addition, PHMSA is amending the operator qualification (OQ) requirements, drug and alcohol testing requirements, and incorporating consensus standards by reference for in-line inspection (ILI) and Stress Corrosion Cracking Direct Assessment (SCCDA).

Timetable:

Action | Date | FR Cite
NPRM | 07/10/15 | 80 FR 39916
NPRM Comment Period End | 09/08/15 |
Final Rule | 12/00/16 |

Regulatory Flexibility Analysis Required: Yes.

Agency Contact: John A. Gale, Transportation Regulations Specialist, Department of Transportation, Pipeline and Hazardous Materials Safety Administration, 1200 New Jersey Avenue SE., Washington, DC 20590, Phone: 202 366-0434, Email: john.gale@dot.gov.

RIN: 2137-AE94

380. +Hazardous Materials: Oil Spill Response Plans and Information Sharing for High-Hazard Flammable Trains

Regulatory Plan: This entry is Seq. No. 100 in part II of this issue of the Federal Register.

RIN: 2137-AF08

BILLING CODE 4910-60-P

DEPARTMENT OF TRANSPORTATION (DOT)

Maritime Administration (MARAD)

Long-Term Actions

381. +Cargo Preference

Legal Authority: 49 CFR 1.66; 46 App U.S.C. 1101; 46 App U.S.C. 1241; 46 U.S.C. 2302 (e)(1); Pub. L. 91-469

Abstract: This rulemaking would revise and clarify the cargo preference regulations that have not been revised substantially since 1971. The rulemaking would also implement statutory changes, including section 3511, Public Law 110-417, of The National Defense Authorization Act for FY 2009, which provides enforcement authority.

Timetable: Next Action Undetermined.

Regulatory Flexibility Analysis Required: Yes.

Agency Contact: Mitch Hudson, Attorney, Department of Transportation, Maritime Administration, 1200 New Jersey Avenue SE., Washington, DC 20590, Phone: 202 366-4000, Email: mitch.hudson@dot.gov.

RIN: 2133-AB74

[FR Doc. 2016-29872 Filed 12-22-16; 8:45 am]

BILLING CODE 4910-81-P